DEPARTMENT OF AGRICULTURE

Forest Service

Proposed Recreation Fee Site

AGENCY: Forest Service, Agriculture (USDA).

ACTION: Notice.

SUMMARY: The Los Padres National Forest is proposing to establish a recreation fee site. Proposed recreation fees collected at the proposed recreation fee site would be used for operation, maintenance, and improvement of the site. An analysis of nearby recreation fee sites with similar amenities shows the proposed recreation fee that would be charged at the proposed recreation fee site are reasonable and typical of similar recreation fee sites in the area.

DATES: If approved, the proposed recreation fee site and proposed recreation fee would be implemented no earlier than six months following the publication of this notice in the Federal Register.

ADDRESSES: Los Padres National Forest, 1980 Old Mission Drive, Solvang, California 93463.

FOR FURTHER INFORMATION CONTACT: Karina Medina, District Ranger, (661) 777-2141, karina.medina@usda.gov.

SUPPLEMENTARY INFORMATION: The Federal Lands Recreation Enhancement Act (16 U.S.C. 6803(b)) requires the Forest Service to publish a six-month advance notice in the Federal Register of establishment of proposed recreation fee sites. In accordance with Forest Service Handbook 2309.13, Chapter 30, the Forest Service will publish the proposed recreation fee site and proposed recreation fee in local newspapers and other local publications for public comment. Most of the proposed recreation fees would be spent where they are collected to enhance the visitor experience at the proposed recreation fee site.

A special recreation permit recreation fee of $5 per day per vehicle is proposed at the Frazier Mountain Trailhead.

Expenditures of proposed recreation fees collected at the proposed recreation fee site would enhance recreation opportunities, improve customer service, and address maintenance needs. Once public involvement is complete, the proposed recreation fee site and proposed recreation fee will be reviewed by a Recreation Resource Advisory Committee prior to a final decision and implementation.

Dated: May 31, 2024.
Jacqueline Emanuel,
Associate Deputy Chief, National Forest System.

[FR Doc. 2024-12419 Filed 6-5-24; 8:45 am]

BILLING CODE 3411-15-P